DEPARTMENT OF LABOR

Employment and Training Administration

[TA-W-37,451A and TA-W-37,451C]

Cross Creek Apparel, Inc., Walnut Cove, North Carolina and Hillsville Sewing Plant, Hillsville, Virginia; Amended Certification Regarding Eligibility to Apply for Worker Adjustment Assistance

In accordance with section 223 of the Trade Act of 1974 (19 U.S.C. 2273) the Department of Labor issued a Notice of Certification Regarding Eligibility to Apply for Worker Adjustment Assistance on April 4, 2000, applicable to workers of Cross Creek Apparel, Inc., Walnut Cove, North Carolina. The notice was published in the Federal Register on April 21, 2000 (65 FR 21473).

At the request of the company, the Department reviewed the determination for workers of the subject firm. New information provided by the company shows that worker separations will occur at the Hillsville Sewing Plant of Cross Creek Apparel, Hillsville, Virginia when it closes at the end of August, 2000. The workers are engaged in employment related to the production of knit apparel. Accordingly, the Department is amending the determination to cover workers of Cross Creek Apparel, Inc., Hillsville Sewing Plant, Hillsville, Virginia.

The intent of the Department's certification is to include all workers of Cross Creek Apparel, Inc. adversely affected by increased imports.

The amended notice applicable to TA-W-37,451A is hereby issued as follows:

“All workers of Cross Creek Apparel, Inc., Walnut Cove, North Carolina (TA-W-37,451A) and Hillsville Sewing Plant, Hillsville, Virginia (TA-W-37,451C) who became totally or partially separated from employment on or after February 21, 1999 through April 4, 2002 are eligible to apply for adjustment assistance under Section 223 of the Trade Act of 1974.”

Signed at Washington, DC, this 31st day of July, 2000.
Grant D. Beale,
Program Manager, Division of Trade Adjustment Assistance.

[FR Doc. 00-20676 Filed 8-14-00; 8:45 am]

BILLING CODE 4510-30-M